DEPARTMENT OF COMMERCE

Submission for OMB Review; Comment Request

The Department of Commerce (DOC) has submitted to the Office of Management and Budget (OMB) for emergency clearance the following proposal for collection of information under the provisions of the Paperwork Reduction Act of 1995, Public Law 104-13.

Agency: International Trade Administration (ITA).

Title: ITA Customer Satisfaction Survey.

Agency Form Number: None.

OMB Approval Number: None.

Type of Request: Emergency.

Burden Hours: 400 hours.

Number of Respondents: 1,600.

Average Hours Per Response: 15 minutes.

Needs and Uses: This information will be used for program improvement, strategic planning, allocation of resources within the organization, and the establishment of benchmark performance measures and trend data related to the Government Performance and Results Act (GPRA). Survey responses will be used to assess what services ITA clients need, when ITA clients first used a product or service and to what extent an ITA product or service has met the needs of a user.

Affected Public: Business or other for-profit organizations.

Frequency: One-time.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution, NW., Washington, DC 20230 or via the Internet at dHynek@doc.gov.

Written comments and recommendations for the proposed information collection should be sent to David Rostker, OMB Desk Officer, Room 10202, New Executive Office Building, Washington, DC 20503 within 30 days of the publication of this notice in the Federal Register.

Dated: February 6, 2003.
Madeleine Clayton,
Management Analyst, Office of the Chief Information Officer.

[FR Doc. 03-3375 Filed 2-10-03; 8:45 am]

BILLING CODE 3510-25-P